DEPARTMENT OF LABOR

Employment and Training Administration

[TA-W-60,827]

Sun Microsystems, Inc., Louisville, CO; Notice of Affirmative Determination Regarding Application for Reconsideration

By letter dated April 16, 2007, a worker requested administrative reconsideration by the Department of Labor (Department) of the Notice of Negative Determination Regarding Eligibility to Apply for Worker Adjustment Assistance applicable to workers and former workers of the subject firm. The negative determination was issued on March 14, 2007. The Department's Notice of determination was published in the Federal Register on March 30, 2007 (72 FR 15168). The workers supported production at an affiliated facility in Puerto Rico.

The negative determination was based on the Department's findings that, during the relevant period, the subject firm did not shift work performed in Louisville, Colorado abroad and did not shift production work from Puerto Rico to a foreign country. The determination also stated that the subject firm sold the Puerto Rico facility to another company.

In the request for reconsideration, the workers alleged that the subject firm shifted production and support functions abroad.

Following the issuance of the negative determination, the Department received new information regarding activities at the subject firm and the affiliated Puerto Rico production facility.

Following a careful review of the workers' request for reconsideration and the above-referenced new information, the Department has determined that further investigation is appropriate.

Conclusion

After careful review of the application, I conclude that the claim is of sufficient weight to justify reconsideration of the U.S. Department of Labor's prior decision. The application is, therefore, granted.

Signed at Washington, DC, this 25th day of May 2007.
Elliott S. Kushner,
Certifying Officer, Division of Trade Adjustment Assistance.

[FR Doc. E7-11024 Filed 6-6-07; 8:45 am]

BILLING CODE 4510-FN-P